DEPARTMENT OF COMMERCE

National Oceanic and Atmospheric Administration

50 CFR Part 648

[Docket No. 250416-0069; RTID 0648-XE865]

Fisheries of the Northeastern United States; Atlantic Sea Scallop Fishery; Final 2025 Closure of the Northern Gulf of Maine Scallop Management Area to the Limited Access General Category Fishery

AGENCY: National Marine Fisheries Service (NMFS), National Oceanic and Atmospheric Administration (NOAA), Department of Commerce.

ACTION: Temporary rule; closure.

SUMMARY: NMFS announces the closure of the Northern Gulf of Maine Scallop Management Area for the remainder of the 2025 fishing year. Regulations require this action once the Northern Gulf of Maine Set-Aside has been reached. Subject to specific enumerated exceptions, possession, retention, or landing of scallops is prohibited in the Northern Gulf of Maine Scallop Management Area once the Regional Administrator publishes a notice in the Federal Register that the Northern Gulf of Maine Set-Aside has been reached. This action is intended to prevent the overharvest of the 2025 Northern Gulf of Maine Set-Aside.

DATES: Effective 0001 hours local time, April 28, 2025 through March 31, 2026.

FOR FURTHER INFORMATION CONTACT: Ashley Trudeau, Fishery Resource Management Specialist, (978) 281-9252.

SUPPLEMENTARY INFORMATION: The regulations governing fishing activity in the Northern Gulf of Maine (NGOM) Scallop Management Area are located in 50 CFR 648.54 and 648.62. These regulations authorize vessels issued a valid Federal scallop permit to fish in the NGOM Scallop Management Area under specific conditions, including the NGOM Set-Aside for the 2025 fishing year, and a State Waters Exemption Program for the State of Maine and Commonwealth of Massachusetts. Section 648.62(b)(2) requires the NGOM Scallop Management Area to be closed to scallop vessels issued Federal Limited Access General Category (LAGC) scallop permits, except as provided below, once the NMFS Greater Atlantic Regional Administrator provides notice that 100 percent of the NGOM Set-Aside has been reached. Any vessel that holds a Federal NGOM (LAGC B) or Individual Fishing Quota (IFQ) (LAGC A) permit may continue to fish in the Maine or Massachusetts state waters portion of the NGOM Scallop Management Area under the State Waters Exemption Program found in § 648.54 provided it has a valid Maine or Massachusetts state scallop permit and fishes only in that state's respective waters.

Based on trip declarations by federally permitted LAGC scallop vessels fishing in the NGOM Scallop Management Area and an analysis of fishing effort, NMFS projects that the 2025 NGOM Set-Aside will be harvested as of April 28, 2025. Thus, in accordance with § 648.62(b)(2), the NGOM Scallop Management Area is closed to all federally permitted LAGC scallop vessels as of April 28, 2025. As of this date, no vessel issued a Federal LAGC scallop permit may fish for, possess, or land scallops in or from the NGOM Scallop Management Area after the effective date and time of this action, unless the vessel is fishing exclusively in state waters and is participating in an approved state waters exemption program as specified in § 648.54. Any federally permitted LAGC scallop vessel that has declared into the NGOM Scallop Management Area, complied with all trip notification and observer requirements, and crossed the vessel monitoring system demarcation line on the way to the area before the effective date and time of this action, may complete its trip and land scallops. This closure is in effect until the end of the 2025 scallop fishing year, through March 31, 2026.

Classification

This action is required by 50 CFR part 648 and is exempt from review under Executive Order 12866.

The Assistant Administrator for Fisheries finds good cause pursuant to 5 U.S.C. 553(b)(B) to waive prior notice and the opportunity for public comment because it would be contrary to the public interest and impracticable. NMFS also finds, pursuant to 5 U.S.C. 553(d)(3), good cause to waive the 30-day delayed effectiveness period. Exigent circumstances necessitate this closure action and any delay would harm the public interest. Applicable regulations at § 648.60(b)(2) require this closure to ensure that federally permitted scallop vessels do not harvest more than the allocated NGOM Set-Aside. However, NMFS can only make projections for the NGOM closure date as trips into the area occur on a real-time basis and as activity trends appear. As a result, accurate projections are only available shortly before the set-aside is harvested. The NGOM Scallop Management Area opened for the 2025 fishing year on April 1, 2025, under default measures implemented under Framework Adjustment 38 (89 FR 20341, March 22, 2024). Between April 1, 2025, and the first NGOM closure on April 11, 2025 (90 FR 15938), an estimated 405,163 lb (183,779 kg) of scallops were harvested, exceeding the default Set-Aside amount for the 2025 fishing year (315,449 lb; 143,085 kg). Upon implementation of Framework Adjustment 39 (90 FR 16644, April 21, 2025), the NGOM Set-Aside amount was adjusted to 675,563 lb (306,430 kg). After the NGOM Scallop Management Area reopened on April 21, 2025, under Framework Adjustment 39, scallops were harvested at an average rate of 35,000 lb (15,876 kg) per day resulting in an additional estimated harvest of 70,000 lb (3,175 kg) as of April 22, 2025; 26 percent of the remaining NGOM Set-Aside. The rapid harvest rate that has occurred does not allow for projections far enough in advance that would allow for notice of a proposed rule, a comment period, or a delay in rule effectiveness. Earlier rule publication was not possible. Allowing federally permitted LAGC scallop vessels to continue taking trips in the NGOM Scallop Management Area during the period necessary to publish and receive comments on a proposed rule, or delay rule effectiveness, would result in vessels harvesting more than the 2025 NGOM Set-Aside for the NGOM Scallop Management Area. This would result in excessive fishing effort in the area thereby undermining conservation and management objectives of the Atlantic Sea Scallop Fishery Management Plan and requiring more restrictive future management measures to make up for the excessive harvest. Applicable regulations at § 648.62(b)(3) require that overages of the NGOM set-aside are subject to pound-for-pound payback in a subsequent fishing year. In addition, reductions in NGOM scallop biomass associated with excessive harvest would result in lower NGOM total allowable landings in future years. As such, delaying this closure action to afford the public with a comment period or a delay in effectiveness would harm the public. The public had prior notice and full opportunity to comment on this closure process during notice and comment rulemaking for Framework 39. Stakeholders are also aware that NMFS closes the NGOM Scallop Management Area when the NGOM Set-Aside is fully harvested. This process occurs annually dating back to the adoption of Amendment 11 to the Scallop FMP in 2007. As stated above, any scallop vessel that has declared into the NGOM Scallop Management Area, complied with all trip notification and observer requirements, and crossed the vessel monitoring system demarcation line on the way to the area before the effective date of this closure, may complete its trip and land scallops. Therefore, those affected by this regulation are given the reasonable opportunity to complete a trip in progress, and those who have not begun any such trip do not need additional days to comply with the effective date of this closure because the rule prohibits them from taking action they have not yet taken.

Authority: 16 U.S.C. 1801 et seq.

Dated: April 24, 2025.
Karen H. Abrams,
Acting Director, Office of Sustainable Fisheries, National Marine Fisheries Service.

[FR Doc. 2025-07399 Filed 4-25-25; 4:15 pm]

BILLING CODE 3510-22-P